Title 3—

The President

Proclamation 8160 of July 10, 2007

Captive Nations Week, 2007

By the President of the United States of America

A Proclamation

Liberty is the path to lasting peace and the unalienable right of every man, woman, and child. During Captive Nations Week, we underscore our commitment to protecting human rights, advancing democracy and freedom, and ending tyranny across the globe.

Expanding freedom is a moral imperative, and today more people are free than ever before. Freedom is reaching around the world, and America is working side-by-side with new democracies in Liberia, Mauritania, Ukraine, Georgia, and Kyrgyzstan. The people of Kuwait held elections in which women were able to vote and run for office for the first time, and the elected parliament is exercising real influence with the government. We continue to stand firmly behind the citizens of Lebanon, Afghanistan, and Iraq as they defend their democratic gains against extremist enemies. Many are making great sacrifices for liberty, and they deserve our steadfast support.

While there is progress in freedom's advance, nations such as Belarus, Burma, Cuba, North Korea, Syria, Iran, Sudan, and Zimbabwe still oppress their citizens. My Administration recently created the Human Rights Defenders Fund to provide grants for the legal defense and medical expenses of democratic dissidents arrested or beaten by repressive governments. In addition, we have nearly doubled funding for democracy projects throughout the world. The American people believe that the flame for freedom burns in every human heart, and that light cannot be extinguished by governments, terrorists, or tyrants. During Captive Nations Week, we remember that human freedom is the key to achieving respect for all human rights.

The Congress, by Joint Resolution approved July 17, 1959 (73 Stat. 212), has authorized and requested the President to issue a proclamation designating the third week in July of each year as “Captive Nations Week.”

NOW, THEREFORE, I, GEORGE W. BUSH, President of the United States of America, by virtue of the authority vested in me by the Constitution and laws of the United States, do hereby proclaim July 15 through 21, 2007, as Captive Nations Week. I call upon the people of the United States to reaffirm our commitment to all those seeking liberty, justice, and self-determination.

IN WITNESS WHEREOF, I have hereunto set my hand this tenth day of July, in the year of our Lord two thousand seven, and of the Independence of the United States of America the two hundred and thirty-second.

[FR Doc. 07-3442

Filed 7-11-07; 10:26 am]

Billing code 3195-01-P